DEPARTMENT OF DEFENSE

Office of the Secretary

32 CFR Part 286

DoD Freedom of Information Act (FOIA) Program

AGENCY: Department of Defense.

ACTION: Final rule; amendment.

SUMMARY: The search and review rates for processing Freedom of Information Act (FOIA) requests within the Department of Defense are being increased at the recommendation of the General Accounting Office (GAO). FOIA requesters will incur more direct costs for search and review, if applicable.

DATES: This rule is effective July 1, 2002.

FOR FURTHER INFORMATION CONTACT: D. Maier, (703) 697-1160.

SUPPLEMENTARY INFORMATION:

List of Subjects in 32 CFR Part 286

Freedom of Information.

Accordingly, 32 CFR part 286 is amended as follows:

PART 286—DOD FREEDOM OF INFORMATION ACT PROGRAM REGULATION

1. The authority citation continues to read as follows:

Authority: 5 U.S.C. 552.

2. In § 286.29, the tables in paragraphs (b)(1) and (d) are revised to read as follows:

§ 286.29 Collection of fees and fee rates.

* * * * *

(b) * * *

(1) * * *

Type | Grade | Hourly Rate
Clerical | E1-E9/GS1-GS8 | $20.00
Professional | O1-O6/GS9-GS15 | 44.00
Executive | ES1-ES6/O7-O10 | 75.00
Contractor |  | 44.00

* * * * *

(d) * * *

Type | Grade | Hourly Rate
Clerical | E1-E9/GS1-GS8 | $20.00
Professional | O1-O6/GS9-GS15 | 44.00
Executive | ES1-ES6/O7-O10 | 75.00
Contractor |  | 44.00

* * * * *

Dated: May 1, 2002.
Patricia Toppings,
Alternate OSD Federal Register Liaison Officer, Department of Defense.

[FR Doc. 02-11381 Filed 5-8-02; 8:45 am]

BILLING CODE 5001-08-M